DEPARTMENT OF COMMERCE

International Trade Administration

[A-580-839]

Certain Polyester Staple Fiber From the Republic of Korea: Rescission of Antidumping Duty Administrative Review; 2014-2015

AGENCY: Enforcement and Compliance, International Trade Administration, Department of Commerce.

SUMMARY: The Department of Commerce (the Department) is rescinding the administrative review of the antidumping duty order on certain polyester staple fiber (PSF) from the Republic of Korea (Korea) for the period of review (POR) May 1, 2014, through April 30, 2015, based on the timely withdrawal of the request for review.

DATES: Effective date: August 5, 2015.

FOR FURTHER INFORMATION CONTACT: Lana Nigro, AD/CVD Operations, Office I, Enforcement and Compliance, International Trade Administration, U.S. Department of Commerce, 14th Street and Constitution Avenue NW., Washington DC 20230; telephone: (202) 482-1779.

SUPPLEMENTARY INFORMATION:

Background

On May 1, 2015, the Department published the notice of opportunity to request an administrative review of the order on PSF from Korea for the period of review May 1, 2014, through April 30, 2015.¹ On May 29, 2015, DAK Americas LLC and Auriga Polymers, Inc., the successor to Invista, S.a.r.L (collectively, the petitioners) requested that the Department conduct an administrative review of Huvis Corporation (Huvis) and Toray Chemical Korea, Inc (Toray).² On June 1, 2015, Huvis requested an administrative review of its POR sales.³ On June 18, 2015, the petitioners withdrew their request for an administrative review of Huvis.⁴ Huvis withdrew its request for an administrative review on June 19, 2015.⁵ Pursuant to the remaining request, for Toray, and in accordance with 19 CFR 351.221(c)(1)(i), the Department published a notice initiating an administrative review solely of Toray.⁶ The petitioners withdrew their request for an administrative review of Toray on July 13, 2015.⁷

¹ See Antidumping or Countervailing Duty Order, Finding, or Suspended Investigation; Opportunity to Request Administrative Review, 80 FR 24898, 24899 (May 1, 2015).

² See Letter from the petitioners to the Department, dated May 29, 2015, at 2.

³ See Letter from Huvis to the Department, dated June 1, 2015, at 1-2.

⁴ See Letter from the petitioners, dated June 18, 2015, at 2.

⁵ See Letter from Huvis, dated June 19, 2015.

⁶ See Initiation of Antidumping and Countervailing Duty Administrative Reviews, 80 FR 37588, 36464 (July 1, 2015).

⁷ See Letter from the petitioners, dated July 13, 2015, at 2.

Rescission of Review

Pursuant to 19 CFR 351.213(d)(1), the Department will rescind an administrative review, in whole or in part, if the party or parties that requested a review withdraws the request within 90 days of the publication date of the notice of initiation of the requested review. As noted above, the petitioners withdrew their request for review of Toray within 90 days of the publication date of the notice of initiation. No other parties requested an administrative review of the order. Therefore, in accordance with 19 CFR 351.213(d)(1), we are rescinding this review in its entirety.

Assessment

The Department will instruct U.S. Customs and Border Protection (CBP) to assess antidumping duties on all appropriate entries of PSF from Korea. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: July 30, 2015.
Christian Marsh,
Deputy Assistant Secretary for Antidumping and Countervailing Duty Operations.

[FR Doc. 2015-19246 Filed 8-4-15; 8:45 am]

BILLING CODE 3510-DS-P